DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2015, through January 31, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “Sustained, or had significantly aggravated, any illness, disability, injury, or condition not set forth in the Vaccine Injury Table but which was caused by” one of the vaccines referred to in the Table, or

b. “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: February 25, 2015.
Mary K. Wakefield,
Administrator.

List of Petitions Filed

1. Jason Chevalier, Wakefield, Rhode Island, Court of Federal Claims No: 15-0001V

2. Juan Alvarado, Rockaway Park, New York, Court of Federal Claims No: 15-0002V

3. Kimberly Durgala, Johnson City, New York, Court of Federal Claims No: 15-0003V

4. Leanell Jones, Fairfield, California, Court of Federal Claims No: 15-0004V

5. Marion Eugene Hayward, Wellesley Hills, Massachusetts, Court of Federal Claims No: 15-0005V

6. Kathleen Konen on behalf of Joseph Konen, Lexington, Michigan, Court of Federal Claims No: 15-0006V

7. Deborah Valles, Oak Lawn, Illinois, Court of Federal Claims No: 15-0007V

8. William Davis and Nicole Davis on behalf of Z.D., Lexington, North Carolina, Court of Federal Claims No: 15-0008V

9. Wyatt Tanner, Columbus, Ohio, Court of Federal Claims No: 15-0011V

10. John Ford, Charleston, South Carolina, Court of Federal Claims No: 15-0012V

11. Martin Crowley, Parris Island, North Carolina, Court of Federal Claims No: 15-0015V

12. Candie Decker on behalf of A.D., Great Neck, New York, Court of Federal Claims No: 15-0017V

13. Norman Reed, Bridgewater, Massachusetts, Court of Federal Claims No: 15-0018V

14. Erica Vancleave, Mill Creek, Washington, Court of Federal Claims No: 15-0019V

15. Linda Schorel, Hudson, Florida, Court of Federal Claims No: 15-0021V

16. Oscar A. Dighero, Garden Grove, California, Court of Federal Claims No: 15-0022V

17. Brandie Terry, Brazoria, Texas, Court of Federal Claims No: 15-0023V

18. Randall Ho, Chicago, Illinois, Court of Federal Claims No: 15-0025V

19. Elaine Stout, Centreville, Virginia, Court of Federal Claims No: 15-0026V

20. Rachael Hanna, Boston, Massachusetts, Court of Federal Claims No: 15-0031V

21. Julie Reiling, Phoenix, Arizona, Court of Federal Claims No: 15-0032V

22. Sherry Smith, Sarasota, Florida, Court of Federal Claims No: 15-0033V

23. Rachel Faucher, Berlin, New Hampshire, Court of Federal Claims No: 15-0034V

24. Cynthia Kuhn, Boston, Massachusetts, Court of Federal Claims No: 15-0035V

25. Wahib Mashini, Irvine, California, Court of Federal Claims No: 15-0036V

26. Patricia Lynne Spilman, Towson, Maryland, Court of Federal Claims No: 15-0037V

27. Linda Roche, Boston, Massachusetts, Court of Federal Claims No: 15-0038V

28. Audra Najera, San Diego, California, Court of Federal Claims No: 15-0039V

29. Jamie Emerson, Boston, Massachusetts, Court of Federal Claims No: 15-0042V

30. Todd Carlson and Carrie Carlson on behalf of E.C., Vienna, Virginia, Court of Federal Claims No: 15-0043V

31. Willard First, Langhorne, Pennsylvania, Court of Federal Claims No: 15-0047V

32. Louis Danni, Niagara Falls, New York, Court of Federal Claims No: 15-0048V

33. Violet Wilson, Auburn, California, Court of Federal Claims No: 15-0049V

34. Douglas Tullio, Washington, District of Columbia, Court of Federal Claims No: 15-0051V

35. Timothy Kelly, Jackson, Michigan, Court of Federal Claims No: 15-0052V

36. Craig Richardson, Princeton, New Jersey, Court of Federal Claims No: 15-0053V

37. Thomas Steffens on behalf of William K. Woll, Deceased, Venice, Florida, Court of Federal Claims No: 15-0059V

38. Rebeca Vega Henchys, Aguadilla, Puerto Rico, Court of Federal Claims No: 15-0060V

39. Finnettia Garner, Houston, Texas, Court of Federal Claims No: 15-0063V

40. Margaret Carpenter, Easton, Pennsylvania, Court of Federal Claims No: 15-0064V

41. Leah Hawkins Bennett on behalf of Varnadora McNeal Hawkins, Deceased, Winter Haven, Florida, Court of Federal Claims No: 15-0065V

42. Jillaine Burghardt, Lake Success, New York, Court of Federal Claims No: 15-0067V

43. David Hoskins, Jr. on behalf of Annabelle Hoskins, Deceased, Huber Heights, Ohio, Court of Federal Claims No: 15-0071V

44. Leslie Hammond, Ephraim, Utah, Court of Federal Claims No: 15-0072V

45. Jose De La Cruz Herrera, Birmingham, Alabama, Court of Federal Claims No: 15-0076V

46. Laura Williams, Farmville, Virginia, Court of Federal Claims No: 15-0080V

47. Phyllis Webb, Millsboro, Delaware, Court of Federal Claims No: 15-0081V

48. Gail A. Clements on behalf of Ronald Clements, Deceased, Murrieta, California, Court of Federal Claims No: 15-0083V

49. Angelika Belgrade, Wilmington, Delaware, Court of Federal Claims No: 15-0084V

50. Sevela DePlush and Mykelle D'Tiole on behalf of M.J.D., Bayside, California, Court of Federal Claims No: 15-0085V

51. Michelle Schneider on behalf of R.S., Leander, Texas, Court of Federal Claims No: 15-0086V

52. Jacqueline Haim, Weston, Florida, Court of Federal Claims No: 15-0089V

53. James Moore, Weston, Florida, Court of Federal Claims No: 15-0090V

54. James Bojan on behalf of J.D.B., Baraboo, Wisconsin, Court of Federal Claims No: 15-0091V

55. Laurie Dart, St. Petersburg, Florida, Court of Federal Claims No: 15-0092V

56. Colleen Dotson, El Cajon, California, Court of Federal Claims No: 15-0093V

57. Gloria Massey Chinea, Irvine, California, Court of Federal Claims No: 15-0095V

58. Anthony Forziati, Belmont, Massachusetts, Court of Federal Claims No: 15-0096V

[FR Doc. 2015-05089 Filed 3-4-15; 8:45 am]

BILLING CODE 4165-15-P